DEPARTMENT OF STATE

[Public Notice 4751]

Bureau of Educational and Cultural Affairs Request for Grant Proposals: Survey of International Educational Exchange Activity in the United States (Foreign Students and Scholars in the U.S. and U.S. Students Studying Abroad)

Summary: The Educational Information and Resources Branch, Office of Global Educational Programs, Bureau of Educational and Cultural Affairs (the Bureau) announces an open competition for a survey of International Educational Exchange Activity in the United States. Public and private non-profit organizations meeting the provisions described in Internal Revenue Code section 26 U.S.C. 501(c)(3) may submit proposals to conduct a statistical survey (census) of foreign nationals affiliated with institutions of higher learning in the United States. The survey, which should be conducted in the most economical way possible, should identify the number of foreign students and scholars studying, conducting research, or teaching at all accredited universities and colleges in the United States during the 2004/2005 academic year (fall 2004 through spring 2005). It must also provide detailed individual student profile data, country-specific aggregate data that enumerate the numbers of foreign students and scholars from a given country affiliated with individual U.S. institutions. Finally, as an indicator of U.S. institutional support for international educational exchange, the report should also include data about the number of American students studying abroad in credit-bearing programs of all types (year-long, semester, short-term and summer). Proposals should describe the methodology that will be used to collect the data, whether by survey, in collaboration with the Department of Homeland Security or some combination thereof, and how the material will be analyzed and presented to the public. The proposal must also include plans to establish an advisory board to provide assistance in identifying and framing policy issues that may need to be addressed by policymakers.

Program Information

Overview: The State Department's Bureau of Educational and Cultural Affairs, with its mandate under the Fulbright-Hays Act to promote mutual understanding through international educational exchange, has supported a survey of foreign students in the United States since 1974 in order to gain an accurate and up-to-date picture of international educational exchange activity in the United States. Recent reports have expanded on the original survey's parameters to include foreign scholars and U.S. students studying overseas.

Proposals to conduct this project should describe plans for a statistical survey that would offer a detailed and comprehensive picture of the number and academic characteristics (major fields of study or program, level of study, etc.) of non-immigrant foreign nationals (that is, excluding permanent residents and refugees) affiliated with (i.e., enrolled at, employed by, etc.) American institutions of higher learning, as well the number of U.S. students studying abroad. Topics that should be covered in the survey include the number of foreign students and scholars, their gender and countries of origin. Information about students' academic level (undergraduate, graduate, post-doctorate), fields of study, primary source of financial support, financial contributions they make while in the United States, and location of study should be included.

Proposals may request Bureau funding of a publication, Web site, database, newsletter, or another medium that is presented as a viable vehicle for making this data widely available in a timely manner and in a clear and concise format. The Bureau reserves the right to reproduce, publish or otherwise use any work developed under this grant for U.S. Government purposes.

Pending successful implementation of this program and the availability of funds in subsequent fiscal years, it is ECA's intent to renew this grant for two additional fiscal years before the next competition. Future support will be contingent upon accurate data collection, quality of presentation of that data, and prompt publication of the census.

Guidelines: Proposals should include a precise description of the methodology to be used to obtain the data called for in this solicitation. Applicants are reminded of the need to find the most economical approach to gathering the data and are encouraged to explore electronic data collection. Applicants should also seek ways of making the information available within the academic year that it is collected.

Data collected should be published annually for public consumption. Applicants are also encouraged to include information about their capacity to carry out electronic surveys and report on findings at the request of the Bureau that would focus on one or more critical issues that may arise during the period in which census data is being gathered.

To provide for a more detailed analysis and cross tabulation of the characteristics of foreign students studying in the United States, individual student profile data should also be collected. This individual student profile data should be provided to the Bureau in a format that is country-specific and should show the number of students from a specific country attending selected institutions of higher education in each state of the U.S.

The Bureau seeks a clear presentation and rigorous analysis of the data collected that will draw conclusions about trends in foreign student enrollments, numbers of foreign scholars on U.S. campuses and American students studying abroad that can be used to guide policy discussions for both government and academia.

The grantee must establish an advisory board on the annual survey to provide assistance in identifying and framing policy issues to be addressed; the board should meet at least once a year. Board members would likely be drawn from a broad range of educational associations and organizations such as NAFSA: Association of International Educators, the American Association of Collegiate Registrars and Admissions Officers and the Council of Graduate Schools, among others, and would be expected to provide perspectives on topics that are related to the internationalization of higher education.

Scholarly analyses of survey data addressing pertinent policy issues should be included in the final report, which will be read by policymakers in government, academia, and business, as well as practitioners in international educational exchange. The report should also include a narrative on the mechanics and uses of data analysis, highlighting how conclusions can be drawn from the data collected, some of the limitations of that analysis, and how the data can benefit the educational institutions supplying it, for example, as a campus advocacy or recruiting tool. Applicants should include with the proposal a complete list of proposed chapter headings and sample analyses.

The Bureau welcomes innovative approaches to the presentation of material, including possible breakdowns for minority-serving institutions such as Historically Black Colleges and Universities and the Hispanic Association of Colleges and Universities. The Bureau also encourages applicants to consider including comment on other topics of current interest in the final report, such as:

(1) How the international exchange population is affected by U.S. visa policies;

(2) How student flows to the U.S. may have been affected by efforts of other countries to attract foreign students, by the expansion of the European Union and its efforts to build an academic market via the Bologna Agreement, etc.

(3) How political and economic trends in other countries are reflected in student flows to the U.S.;

(4) How economic trends in the U.S., including the rise in tuition levels and the cost of living, may have affected student flows to the U.S.;

(5) As an element of global trade, how international student flows may have commercial significance for the development of foreign markets for U.S. education and training;

(6) The impact of international students and scholars on U.S. academic institutions and departments;

(7) Demonstrated benefits of study abroad; for example, as seen by employers;

(8) U.S. institutions' activities to educate foreign students in their home countries, through, for example, overseas campuses or distance education programs to complement the data now collected on education of foreign students in the United States.

(9) The numbers of foreign students studying in intensive English language programs in the United States.

The grant should begin on or about October 1, 2004, and run through September 30, 2005.

Budget Guidelines: Grants awarded to eligible organizations with less than four years experience in conducting international exchange programs will be limited to $60,000. The Bureau anticipates awarding one grant in the amount of $190,000 to support program and administrative costs required to implement this program. The Bureau encourages applicants to provide maximum levels of cost-sharing and funding from private sources in support of its programs.

Applicants must submit a comprehensive budget for the entire program. Awards may not exceed $190,000. There must be a summary budget as well as breakdown reflecting both administrative and program budgets. Applicants may provide separate sub-budgets for each program component, phase, location, or activity to provide clarification.

Allowable costs for the program include the following:

(1) Salaries and fringe benefits; travel and per diem;

(2) Other direct costs, inclusive of rent, utilities, etc.;

(3) Overhead expenses and auditing costs.

Please refer to the Solicitation Package for complete budget guidelines and formatting instructions.

Announcement Title and Number: All communications with the Bureau concerning this RFGP should refer to the announcement's title and reference number ECA/A/S/A 05-01.

FOR FURTHER INFORMATION CONTACT: The Office of Global Educational Programs, Educational Information and Resource Branch, U.S. Department of State, 301 4th Street, SW., (SA-44), Washington, DC 20547, tel: (202) 619-5549, fax: (202) 401-1433, e-mail: PrinceAL@state.gov to request a Solicitation Package. The Solicitation Package contains detailed award criteria, required application forms, specific budget instructions, and standard guidelines for proposal preparation. Please specify Bureau Program Officer Ann Prince on all other inquiries and correspondence.

Please read the complete Federal Register announcement before sending inquiries or submitting proposals. Once the RFGP deadline has passed, Bureau staff may not discuss this competition with applicants until the proposal review process has been completed.

To Download a Solicitation Package via Internet: The entire Solicitation Package may be downloaded from the Bureau's Web site at: http://exchanges.state.gov/education/RFGPs. Please read all information before downloading.

New OMB Requirement

AN OMB policy directive published in the Federal Register on Friday, June 27, 2003, requires that all organizations applying for Federal grants or cooperative agreements must provide a Dun and Bradstreet (D&B) Data Universal Numbering System (DUNS) number when applying for all Federal grants or cooperative agreements on or after October 1, 2003. The complete OMB policy directive can be referenced at http://www.whitehouse.gov/omb/fedreg/062703_grant_identifier.pdf. Please also visit the ECA Web site at http://exchanges.state.gov/education/rfgps/menu.htm for additional information on how to comply with this new directive.

Shipment and Deadline for Proposals: Important note: The deadline for this competition is July 30, 2004. In light of recent events and heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. Delivery of proposal packages may not be made via local courier service or in person for this competition. Faxed documents will not be accepted at any time. Only proposals submitted as stated above will be considered.

Applicants must follow all instructions in the Solicitation Package. The original and 10 copies of the application should be sent to: U.S. Department of State, SA-44, Bureau of Educational and Cultural Affairs, Ref.: ECA/A/S/A-05-01, Program Management, ECA/EX/PM, Room 534, 301 4th Street, SW., Washington, DC 20547.

Along with the Project Title, all applicants must also enter the above Reference Number in Box 11 on the SF-424 contained in the mandatory Proposal Submission Instruction (PSI) document.

Applicants must also submit the “Executive Summary” and “Proposal Narrative” sections of the proposal in text (.txt) format on a PC-formatted disk. The Bureau will provide these files electronically to the Public Affairs Section at the U.S. embassy for its review.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Adherence to All Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR part 62, including the oversight of Responsible Officers and Alternate Responsible Officers, screening and selection of program participants, provision of pre-arrival information and orientation to participants, monitoring of participants, proper maintenance and security of forms, record-keeping, reporting and other requirements.

If applicable, the Grantee will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547. Telephone: (202) 401-9810. Fax: (202) 401-9809.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards resides with the Bureau's Grants Officer.

Review Criteria

Technically eligible applications will be competitively reviewed according to the criteria stated below. These criteria are not rank ordered and all carry equal weight in the proposal evaluation:

(1) Quality of the Program Idea: Proposals should exhibit originality, substance, precision, and relevance to the Bureau's mission.

(2) Program Planning: Detailed agenda and relevant work plan should demonstrate substantive undertakings and logistical capacity. Agenda and plan should adhere to the program overview and guidelines described above.

(3) Ability to Achieve Program Objectives: Objectives should be reasonable, feasible, and flexible. Proposals should clearly demonstrate how the institution will meet the program's objectives and plan.

(4) Support of Diversity: Proposals should demonstrate substantive support of the Bureau's policy on diversity.

(5) Institutional Capacity: Proposed personnel and institutional resources should be adequate and appropriate to achieve the program or project's goals.

(6) Institution's Record/Ability: Proposals should demonstrate an institutional record of successful data collection and statistical analysis, as well as responsible fiscal management and full compliance with all reporting requirements for past Bureau grants as determined by Bureau Grant Staff. The Bureau will consider the past performance of prior recipients and the demonstrated potential of new applicants.

(7) Project Evaluation: Proposals should include a plan to evaluate the activity's success, both as the activities unfold and at the end of the program. A draft survey questionnaire or other technique plus description of a methodology to use to link outcomes to original project objectives are recommended. Successful applicants will be expected to submit intermediate reports after each project component is concluded or quarterly, whichever is less frequent.

(8) Cost-Effectiveness: The overhead and administrative components of the proposal, including salaries and honoraria, should be kept as low as possible. All other items should be necessary and appropriate.

(9) Cost-sharing: Proposals should maximize cost-sharing through other private sector support as well as institutional direct funding contributions.

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFGP are binding and may not be modified by any Bureau representative.

Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: June 22, 2004.
C. Miller Crouch,
Principal Deputy Assistant Secretary, Bureau of Educational and Cultural Affairs, Department of State.

[FR Doc. 04-14600 Filed 6-25-04; 8:45 am]

BILLING CODE 4710-05-P